DEPARTMENT OF DEFENSE

Department of the Army; Corps of Engineers

Intent to Prepare a Draft Environmental Impact Statement for the Proposed University of California at Merced and Associated Infrastructure Projects, Corps Permit Application Numbers 199900203 and 200100570

AGENCY: Department of the Army, U.S. Army Corps of Engineers, DoD.

ACTION: Notice of intent.

SUMMARY: The University of California and County of Merced propose to construct a major university campus and associated infrastructure in Merced County, California. The project as proposed would impact over 92 acres of waters of the United States, including vernal pools and other associated wetlands.

FOR FURTHER INFORMATION CONTACT: Questions about the proposed action and DEIS can be answered by Ms. Nancy Haley, (916) 557-7772, ucmerced@spk.usace.army.mil, 1325 J Street, Room 1480, Sacramento, CA 95814-2922.

SUPPLEMENTARY INFORMATION: The applicants have applied for Department of the Army permits under Section 404 of the Clean Water Act to construct a tenth University of California campus to support 25,000 full-time equivalent students and associated infrastructure. The proposed campus would be 2,000 acres in size, and comprised of a Main Campus (910 acres), Merced Irrigation District canals and easements (70 acres), a Campus Land Reserve (340 acres), and a Campus Natural Reserve (750 acres).

The Main Campus would consist of an academic core, student support services, student and faculty housing, campus support, on-campus research facilities, athletic and recreation facilities, and parking. The Campus Land Reserve is proposed for future growth of the University facility. The Campus Natural Reserve would be preserved and managed to maintain and enhance its natural environmental functions and values. Over 86 acres of waters of the United States would be directly impacted by this project. Additional indirect impacts to waters would likely occur; however those impacts have not yet been quantified.

Construction of the first phase of the UC Merced Campus is proposed to begin in 2002, on about 110 acres of the existing Merced Hills Golf Course located at the southern end of the proposed Main Campus. The applicant has stated that construction of the first phase will not involve any placement of dredged or fill material into any waters of the United States, including wetlands.

The proposed project is located east of Lake Road, and Yosemite Lake, approximately two miles northeast of the City of Merced, Merced County, California.

Alternatives to be examined for the campus include: Bellevue Ranch site, Castle Airport site, City of Merced in-fill sites, and various configurations on, and/or adjacent to, the proposed project site.

The Infrastructure project would include construction of a major north-south arterial north of Yosemite Road, portions of two additional minor arterial roadways and collector streets, and utility lines (storm drainage, sewer, potable water, fire and irrigation water, telecommunications, electric and gas) within the rights-of-way secured for those roadways. A storm water collection system would be constructed parallel to the major arterial roadway.

Although this infrastructure is needed for the campus, it is proposed to be located and configured in such a manner as to allow the development of a campus community adjacent to the campus.

The infrastructure would directly impact over 6 acres of waters of the United States. Indirect impacts have not yet been quantified. This project is located north of Yosemite Road, and parallel to Lake Road, northeast of the City of Merced, Merced County, California.

No alternatives to the infrastructure have been identified to date. However, the proposed infrastructure, alternatives to its proposed size, design and location will be considered in the Section 404(b)(1) analysis that will be prepared for this application.

The Corps' public involvement program includes several opportunities to provide oral and written comments. Affected Federal, state, local agencies, Indian tribes and other interested private organizations and parties are invited to participate. Significant issues to be analyzed in depth in the DEIS include, loss of waters of the United States, including vernal pools and other wetlands; cultural resources; threatened and endangered species; surface water and groundwater; water quality; socio-economic effects; aesthetics. The DEIS for both the Infrastructure and the UC Merced projects will be combined into one document to facilitate public review and analysis.

The Corps has initiated formal consultation with the U.S. Fish and Wildlife Service under Section 7 of the Endangered Species Act for eight, Federally threatened and endangered species and one species proposed for listing that may be affected by this project. In addition, the Corps will be consulting with the State Historic Preservation Officer under Section 106 of the National Historic Preservation Act regarding potential impacts to sites listed, or eligible for listing, on the National Register of Historic Places.

Two scoping meetings will be held on April 18, 2002, at the Merced Civic Center. The first meeting will be held from 3:00p.m. to 5:00p.m., with the second from 7:00p.m. to 9:00p.m.

The estimated date when the DEIS will be made available to the public is Fall 2002.

Luz D. Ortiz,
Army Federal Register Liaison Officer.

[FR Doc. 02-7523 Filed 3-27-02; 8:45 am]

BILLING CODE 3710-EH-P